DEPARTMENT OF THE INTERIOR

National Park Service

Notice of Availability of Record of Decision on the Final Environmental Impact Statement/General Management Plan

AGENCY: National Park Service, Interior.

ACTION: Notice of availability of a record of decision on the Final Environmental Impact Statement/General Management Plan, Devils Tower National Monument, Wyoming.

SUMMARY: On June 26, 2002, the Director, Intermountain Region approved the Record of Decision for the project. As soon as practical, the National Park Service will begin to implement the General Management Plan described as the Preferred Alternative (Alternative 3) contained in the FEIS issued on March 21, 2002. In the Preferred Alternative a shuttle system would be established, a staging area would be constructed north of the entrance station, the paved parking area at the base of the Tower would be converted to a landscaped pedestrian plaza, and the campground and other facilities in the Belle Fourche River floodplain would be eliminated and the area restored to natural conditions. This alternative was deemed to be the environmentally preferred alternative, and it was determined that implementation of the selected actions will not constitute an impairment of park resources and values. This course of action and four alternatives were analyzed in the Draft and Final Environmental Impact Statements. The full range of forseeable environmental consequences were assessed, and appropriate mitigating measures identified.

The full Record of Decision includes a statement of the decision made, synopses of other alternatives considered, the basis for the decision, a description of the environmentally preferable alternative, a finding on impairment of park resources and values, a listing of measures to minimize environmental harm, an overview of public involvement in the decision-making process, and a Statement of Findings for Wetlands.

Basis for Decision

In reaching its decision to select the preferred alternative, the National Park Service considered the purposes for which Devils Tower National Monument was established, and other laws and policies that apply to lands in the monument, including the Organic Act, National Environmental Policy Act, and the NPS Management Policies. The National Park Service also carefully considered public comments received during the planning process.

To develop a preliminary preferred alternative, the planning team evaluated the five draft alternatives that had been reviewed by the public. To minimize the influence of individual biases and opinions, the team used an objective analysis process called “Choosing by Advantages.” This process has been used extensively by government agencies and the private sector. The following conclusions were reached:

• Alternative 3 represented a significant improvement in visitor experience at the base of the Tower over existing conditions, despite the potential for noise from shuttle vehicles and continued high concentrations of visitors in the Tower area.

• In “Ease of access to the monument” which includes the ability to visit the monument on one's own schedule and seldom encountering waiting lines at the entrance station, Alternative 3 was rated highest of the alternatives because waiting lines at the entrance station would be reduced and visitors could enter the monument before being required to ride a shuttle.

• “Visitor understanding of the monument's significance” includes offering high quality interpretive services for visitors. Alternatives 3 and 4 rated highest for interpretive opportunities because of the inclusion of a staging area, interpretive opportunities on the shuttle, and the ability to keep more facilities open in the winter.

• The viewshed to be preserved comprises views within the park from the Tower and from the Tower and Red Beds trails. Though Alternative 3 did not score highest, the developments called for in Alternative 3 probably could be screened from many areas, giving it and another alternative a score of second.

Overall, Alternative 3 received the highest score and was adopted as the preferred alternative.

FOR FURTHER INFORMATION CONTACT: Superintendent Lisa Ekert, Devils Tower National Monument, P.O. Box 10, Devils Tower, Wyoming 82714; telephone 307/ 467-5283, or e-mail deto_planning@nps.gov.

SUPPLEMENTARY INFORMATION: A limited number of individual copies of the Record of Decision may be obtained from the Superintendent listed above.

Dated: June 26, 2002.
Karen P. Wade,
Regional Director, Intermountain Region.

[FR Doc. 02-22374 Filed 8-30-02; 8:45 am]

BILLING CODE 4310-70-P